DEPARTMENT OF THE INTERIOR

Fish and Wildlife Service

Notice of Availability of Environmental Assessment and Finding of No Significant Impact for Issuance of Incidental Take Permits to Gulf Highlands LLC and Fort Morgan Paradise Joint Venture on Privately Owned Lands in Alabama; Correction

AGENCY: Fish and Wildlife Service, Interior.

ACTION: Notice of availability; correction.

The U.S. Fish and Wildlife Service (Service) published a document in the Federal Register of April 9, 2002, announcing our intent to issue incidental take permits to Gulf Highlands LLC and Fort Morgan Paradise Joint Venture for residential development in Alabama, pursuant to section 10(a)(1)(B) of the Endangered Species Act of 1973, as amended (Act). The document incorrectly stated that incidental take authority would be granted for three species of sea turtle.

FOR FURTHER INFORMATION CONTACT: Mr. David Dell, Regional HCP Coordinator, (see ADDRESSES above), telephone: 404/679-7313, facsimile: 404/679-7081, e-mail: david—dell@fws.gov; or Ms. Celeste South, Fish and Wildlife Biologist, Daphne Field Office, Alabama (see ADDRESSES above), telephone: 251/441-5181.

Correction: In the Federal Register of April 9, 2002, in FR Doc. 02-8491, on page 17089, correct the third sentence to read: The proposed action includes implementation of the Habitat Conservation Plan (HCP) jointly developed by the Applicants, as required by section 10(a)(2)(B) of the Act, to minimize and mitigate for incidental take of the Federally-listed, endangered Alabama beach mouse (Peromyscus polionotus ammobates) (ABM), and to avoid incidental take of the Federally-listed endangered Kemp's ridley sea turtle (Lepidochelys kempii), the threatened green sea turtle (Chelonia mydas), and the threatened loggerhead sea turtle (Caretta caretta).

Correct the fourth sentence to read: The subject permits would authorize take of ABM along 2,844 linear feet of coastal dune habitat fronting the Gulf of Mexico in Baldwin County, Alabama.

Dated: April 9, 2002.
Cynthia K. Dohner,
Acting Regional Director.

[FR Doc. 02-9467 Filed 4-17-02; 8:45 am]

BILLING CODE 4310-55-P